DEPARTMENT OF THE INTERIOR

Minerals Management Service

Outer Continental Shelf (OCS), Central and Western Gulf of Mexico, Oil and Gas Lease Sales for Years 2002-2007

AGENCY: Minerals Management Service, Interior.

ACTION: Call for information and nominations, Notice of intent to prepare an environmental impact statement.

SUMMARY: MMS proposes to adopt a multisale process for the Central and Western Gulf of Mexico (GOM) sales in the 2002-2007 OCS Oil and Gas Leasing Program. This single multisale process will cover all proposed sales in both planning areas. The Call, the initial step in the process, will cover ten sales—five Central GOM sales and five Western GOM sales. There will also be complete National Environmental Policy Act, OCS Lands Act, and Coastal Zone Management Act coverage for each sale. We propose to prepare an Environmental Assessment for Sale 184, Western GOM, tiering off the previous multisale EIS for Western GOM Sales. We propose to prepare one multisale EIS for the remaining nine Central and Western GOM sales in the 2002-2007 OCS Leasing Program.

DATES: Nominations and comments must be received no later than October 12, 2001.

FOR FURTHER INFORMATION CONTACT: For information on the Call for Information and Nominations, please contact Ms. Jane Burrell Johnson, Minerals Management Service, Gulf of Mexico OCS Region, 1201 Elmwood Park Boulevard, New Orleans, Louisiana 70123-2394, telephone (504) 736-2811. For information on the Notice of Intent to Prepare an EIS, please contact, Mr. Joseph Christopher, Minerals Management Service, Gulf of Mexico OCS Region, 1201 Elmwood Park Boulevard, New Orleans, Louisiana 70123-2394, telephone (504) 736-2788.

SUPPLEMENTARY INFORMATION: In 1996, MMS adopted multisale processes for sales in the Central and Western GOM. The multisale process for each planning area incorporated prelease planning and analysis steps for all sales proposed in the 1997-2002 OCS Oil and Gas Leasing Program (except for the first sale in the Western GOM, which was covered in a previous Call and EIS). MMS proposes to adopt a similar process for the Central and Western GOM sales in the 2002-2007 OCS Oil and Gas Leasing Program. For the Proposed 5-Year Program, a single multisale process will cover all proposed sales in both planning areas.

Call for Information and Nominations

1. Authority

This Call is published pursuant to the OCS Lands Act as amended (43 U.S.C. 1331-1356, (1994), and the regulations issued thereunder (30 CFR part 256).

2. Purpose of Call

The purpose of the Call is to gather information for the following tentatively scheduled OCS Lease Sales in the Central and Western GOM:

Sale, OCS planning area | Tentative sale date
Sale 184, Western GOM | August 2002.
Sale 185, Central GOM | March 2003.
Sale 187, Western GOM | August 2003.
Sale 190, Central GOM | March 2004.
Sale 192, Western GOM | August 2004.
Sale 194, Central GOM | March 2005.
Sale 196, Western GOM | August 2005.
Sale 198, Central GOM | March 2006.
Sale 200, Western GOM | August 2006.
Sale 201, Central GOM | March 2007.

Information and nominations on oil and gas leasing, exploration, and development and production within the Central and Western GOM are sought from all interested parties. This early planning and consultation step is important for ensuring that all interests and concerns are communicated to the Department of the Interior for future decisions in the leasing process pursuant to the OCS Lands Act, and regulations at 30 CFR part 256.

Please note this is the third issuance of a multisale Call by MMS and the first Call in the Proposed 5-Year Program for 2002-2007. Responses are requested relative to proposed sales in both the Central and Western GOM OCS Planning Areas. Eighteen years of experience with leasing at an annual areawide pace has shown that the sale proposals in the Central and Western GOM are very similar from year to year. This makes possible the use of a multisale process, described herein, to address decisions for all ten lease sales proposed for both the Central and Western GOM Planning Areas. This Call covers five sales in the Central Planning Area and five sales in the Western Planning Area. We propose to prepare an Environmental Assessment for Sale 184, Western GOM, tiering off the previous multisale EIS for Western GOM Sales. We propose to prepare one multisale EIS for the remaining nine sales in the 2002-2007 OCS Leasing Program. There will be complete NEPA coverage for each sale—an EIS, an EA, or a Supplemental EIS focusing primarily on new issues. We will prepare a Consistency Determination and proposed and final Notices of Sale for each proposed sale in accordance with Coastal Zone Management Act and OCS Lands Act requirements.

This Call does not indicate a preliminary decision to lease in the areas described below. Final delineation of each area for possible leasing will be made at a later date and in compliance with applicable laws including all requirements of the NEPA and OCS Lands Act. Established Departmental procedures will be employed.

3. Description of Areas

The general areas of this Call cover the entire Central and Western GOM, except for those exclusions listed in Item 4, “Areas Excluded from this Call,” under the Call for Information and Nominations. The Central GOM is bounded on the east by approximately 88 degrees W. longitude. Its western boundary begins at the offshore boundary between Texas and Louisiana and proceeds southeasterly to approximately 28 degrees N. latitude, thence east to approximately 92 degrees W. longitude, thence south to the continental shelf boundary with Mexico as established by the “Treaty Between The Government Of The United States Of America And The Government Of The United Mexican States On The Delimitation Of The Continental Shelf In The Western Gulf Of Mexico Beyond 200 Nautical Miles,” which took effect in January 2001, thence generally eastward to approximately 88 degrees W. longitude. The planning area is bounded on the north by the Federal-State boundary offshore Louisiana, Mississippi, and Alabama. The area available for nominations and comments at this time consists of approximately 47.80 million acres, of which approximately 25.15 million acres are currently unleased.

The Western GOM is bounded on the west and north by the Federal-State boundary offshore Texas; the eastern boundary begins at the offshore boundary between Texas and Louisiana and proceeds southeasterly to approximately 28 degrees N. latitude, thence east to approximately 92 degrees W. longitude, thence south to the maritime boundary with Mexico as established by the “Treaty Between The Government Of The United States Of America And The Government Of The United Mexican States On The Delimitation Of The Continental Shelf In The Western Gulf Of Mexico Beyond 200 Nautical Miles,” which took effect in January 2001. The planning area lies offshore Texas and, in deeper water, offshore Louisiana. The area available for nominations and comments at this time consists of approximately 35.90 million acres, of which approximately 13.42 million acres are currently unleased.

A standard Call for Information Map depicting the Central and Western GOM on a block-by-block basis is available without charge from: Minerals Management Service, Public Information Unit (MS 5034), 1201 Elmwood Park Boulevard, New Orleans, Louisiana 70123-2394, Telephone: 1-800-200-GULF.

4. Areas Excluded From This Call

A.The entire Central GOM will be considered for possible leasing except:

1. The following blocks which are beyond the United States Exclusive Economic Zone in the area known as the northern portion of the Eastern Gap: Lund South (Area NG16-07) Blocks 172 and 173; 213 through 217; 252 through 261; 296 through 305; and 349.

2. The following whole and partial blocks which are beyond the United States Exclusive Economic Zone in the area formerly known as the northern portion of the Western Gap and which lie within the 1.4 nautical mile buffer zone north of the continental shelf boundary between the United States and Mexico:

Partial blocks: Amery Terrace (Area NG15-09) Blocks 235 through 238; 273 through 279; 309 through 317; and

Whole blocks: Amery Terrace (Area NG15-09) Blocks 280, 281; 318 through 320; and 355 through 359.

B. The entire Western GOM will be considered for possible leasing except:

1. Two blocks in the High Island Area, East Addition, South Extension, Blocks A-375 and A-398 (at the Flower Garden Banks), and the portions of other blocks within the boundary of the Flower Garden Banks National Marine Sanctuary.

2. The following whole and partial blocks which are beyond the United States Exclusive Economic Zone in the area formerly known as the Northern Portion of the Western Gap and which lie within the 1.4 nautical mile buffer zone north of the continental shelf boundary between the United States and Mexico:

Whole blocks: Sigsbee Escarpment (Area NG15-08) Blocks 11, 57, 103, 148, 149, 194, 239, 284, and 331 through 341; and

Partial blocks: Keathley Canyon (Area NG15-05) Blocks 978 through 980; and Sigsbee Escarpment (Area NG15-08) Blocks 12 through 14; 58 through 60; 104 through 106; 150, 151, 195, 196, 240, 241; 285 through 298; and 342 through 349.

5. Instructions on Call

The standard Call for Information Map and indications of interest and comments must be submitted to: Ms. Jane Burrell Johnson, Minerals Management Service, Gulf of Mexico OCS Region, 1201 Elmwood Park Boulevard, New Orleans, Louisiana 70123-2394. Envelopes should be labeled “Nominations for Proposed 2002-2007 Lease Sales in the Central and Western Gulf of Mexico” or “Comments on the Call for Information and Nominations for Proposed 2002-2007 Lease Sales in the Central and Western Gulf of Mexico.”

The standard Call for Information Map delineates the Call area, all of which has been identified by MMS as having potential for the discovery of accumulations of oil and gas. Respondents are requested to indicate interest in and comment on any or all of the Federal acreage within the boundaries of the Call area that they wish to have included in each of the proposed sales in the Central and Western GOM.

Although individual indications of interest are considered to be privileged and proprietary information, the names of persons or entities indicating interest or submitting comments will be of public record. Those indicating such interest are required to do so on the standard Call for Information Map by outlining the areas of interest along block lines.

Respondents should rank areas in which they have expressed interest according to priority of their interest (e.g., priority 1 [high], 2 [medium], or 3 [low]). Respondents are encouraged to be specific in indicating blocks by priority, as blanket nominations on large areas are not useful in the analysis of industry interest. Areas where interest has been indicated but on which respondents have not indicated priorities will be considered priority 3 (low).

Respondents may also submit a detailed list of blocks nominated (by Official Protraction Diagram and Leasing Map designations) to ensure correct interpretation of their nominations. Official Protraction Diagrams and Leasing Maps can be purchased from the Public Information Unit referred to above.

Comments are sought from all interested parties about particular geological, environmental, biological, archaeological and socioeconomic conditions or conflicts, or other information that might bear upon the potential leasing and development of particular areas. Comments are also sought on possible conflicts between future OCS oil and gas activities that may result from the proposed sales and State Coastal Management Programs. If possible, these comments should identify specific Coastal Management Plans policies of concern, the nature of the conflict foreseen, and steps that MMS could take to avoid or mitigate the potential conflict. Comments may either be in terms of broad areas or restricted to particular blocks of concern. Those submitting comments are requested to list block numbers or outline the subject area on the standard Call for Information Map.

6. Use of Information From Call

Information submitted in response to this Call will be used for several purposes. First, responses will be used to identify the areas of potential for oil and gas development. Second, comments on possible environmental effects and potential use conflicts will be used in the analysis of environmental conditions in and near the Call area. This information will be used to make a preliminary determination of the potential advantages and disadvantages of oil and gas exploration and development to the region and the Nation. A third purpose for this Call is to use the comments collected in the scoping process for the EIS and to develop proposed actions and alternatives. Fourth, comments may be used in developing lease terms and conditions to ensure safe offshore operations. And, fifth, comments may be used to assess potential conflicts between offshore gas and oil activities and a State Coastal Management Plan.

7. Existing Information

MMS routinely assesses the status of information acquisition efforts and the quality of the information base for potential decisions on tentatively scheduled lease sales. As a result of this continually ongoing assessment, it has been determined that the status of the existing data available for planning, analysis, and decisionmaking is adequate and extensive.

An extensive environmental studies program has been underway in the GOM since 1973. The emphasis, including continuing studies, has been on environmental characterization of biologically sensitive habitats, physical oceanography, ocean-circulation modeling, and ecological effects of oil and gas activities. A complete listing of available study reports, and information for ordering copies, can be obtained from the Public Information Unit referenced under Item 3, “Description of Area.” The reports may also be ordered, for a fee, from the U.S. Department of Commerce, National Technical Information Service, 5285 Port Royal Road, Springfield, Virginia 22161, or telephone (703) 487-4650. In addition, a program status report for continuing studies in this area can be obtained from the Chief, Environmental Sciences Section (MS 5430), Gulf of Mexico OCS Region (see address under Item 3, “Description of Areas”), or telephone (504) 736-2752.

Summary Reports and Indices and technical and geological reports are available for review at the MMS, Gulf of Mexico OCS Region. Copies of the Gulf of Mexico OCS Regional Summary Reports may be obtained from the Technical Communication Service, Minerals Management Service, 381 Elden Street, MS 4063, Herndon, Virginia 20170, phone: (703) 787-1080.

8. Tentative Schedule

The following is a list of tentative milestone dates applicable to sales covered by this Call:

Multisale Process Milestones for Proposed 2002-2007 Central and Western GOM Sales

Call/NOI

September 2001

Comments received on Call/NOI

October 2001

Area Identification Decision for 10 sales (5 Western GOM and 5 Central GOM)

October 2001

EA completed for Western GOM Sale 184

March 2002

Draft EIS published for 9 sales (5 Central GOM and 4 Western GOM)

April 2002

Public Hearings on Draft EIS

June 2002

Final EIS for 9 sales (5 Central GOM and 4 Western GOM)

November 2002

Sale-specific Process Milestones for Proposed 2002-2007 Central and Western GOM Sales

Request for Information to Begin Sale-Specific Process

12 months before each sale

Environmental Review (EA/Finding of No Significant Impact/Supplemental EIS (EA/FONSI/SEIS)) published

4 to 7 months before each sale

Proposed Notice and Consistency Determination

4 months before each sale

Final Notice of Sale

1 month before each sale

Tentative Sale Dates

March (Central GOM) and August (Western GOM) of each year

Notice of Intent To Prepare an EIS

1. Authority

The Notice of Intent is published pursuant to the regulations (40 CFR 1501.7) implementing the provisions of the NEPA of 1969 as amended (42 U.S.C. 4321 et seq. (1988)).

2. Purpose of Notice of Intent

Pursuant to the regulations implementing the procedural provisions of the NEPA, MMS is announcing its intent to prepare an EIS on the tentatively scheduled 2002-2007 oil and gas leasing proposals in the Central and Western GOM, off the States of Texas, Louisiana, Mississippi, and Alabama. The NOI also serves to announce the scoping process for this EIS. Throughout the scoping process, Federal, State, and local government agencies, and other interested parties have the opportunity to aid MMS in determining the significant issues and alternatives to be analyzed in the EIS.

The EIS analysis will focus on the potential environmental effects of oil and natural gas leasing, exploration, development, and production in the areas identified through the Area Identification procedure as the proposed lease sale areas. Alternatives that may be considered for each sale are to delay the sale, cancel the sale, or modify the sale.

Federal regulations allow for several proposals to be analyzed in one EIS (40 CFR 1502.4). Since each sale proposal and projected activities are very similar each year for each planning area, MMS is proposing to prepare a single EIS (multisale EIS) for the nine Central and Western Planning Area lease sales scheduled for 2002-2007 in the draft proposed Outer Continental Shelf Oil and Gas Leasing Program: 2002-2007. The multisale approach is intended to focus the NEPA/EIS process on differences between the proposed sales and on new issues and information. The multisale EIS will eliminate the repetitive issuance of complete draft and final EISs for each planning area. The resource estimates and scenario information for the EIS analyses will be presented as a range that would encompass the resources and activities estimated for any of the nine proposed lease sales. At the completion of this EIS process, decisions will be made only for proposed Sales 185 and 187, scheduled to be held in 2003. Subsequent to these first sales in the planning areas, a NEPA review will be conducted for each of the other proposed lease sales in the 2002-2007 Leasing Program. Formal consultation with other Federal Agencies, the affected States, and the public will be carried out to assist in the determination of whether or not the information and analyses in the original multisale EIS are still valid. These consultations and NEPA reviews will be completed before decisions are made on the subsequent sales.

3. Comments

We request that Federal, State, local government agencies, and other interested parties send their written comments on the scope of the EIS, significant issues that should be addressed, and alternatives that should be considered to the Regional Supervisor, Leasing and Environment, Gulf of Mexico OCS Region, 1201 Elmwood Park Boulevard, New Orleans, Louisiana, 70123-2394, telephone (504) 736-2788 or 1-800-200-GULF. Please enclose your comments in an envelope labeled “Comments on the Multisale EIS.” MMS will hold scoping meetings in appropriate locations to obtain additional comments and information regarding the scope of the EIS. We will announce the scoping meetings in the Federal Register and advertise the meetings in local community newspapers.

Dated: August 29, 2001.
Thomas R. Kitsos,
Acting Director, Minerals Management Service.

[FR Doc. 01-22918 Filed 9-11-01; 8:45 am]

BILLING CODE 4310-MR-P